DEPARTMENT OF COMMERCE

Census Bureau

Proposed Information Collection; Comment Request; 2017 Puerto Rico Census Test

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before September 19, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Robin A. Pennington, Census Bureau, HQ-2K281N, Washington, DC 20233; (301) 763-8132 (or via email at robin.a.pennington@census.gov).

SUPPLEMENTARY INFORMATION:

I. Abstract

The Census Bureau will conduct a 2017 Puerto Rico Census Test, with components designed to test new approaches or validate existing approaches and systems integration related to (1) Address Canvassing, including In-Office and In-Field components; (2) Optimizing Self-Response, including contact strategies, language support, and questionnaire content; (3) Update Enumerate, including technical and operational testing; and (4) Nonresponse Followup, including technological and operational improvements. The Address Canvassing component of the 2017 Puerto Rico Census Test is included in the Address Canvassing Testing package because the background, description, and systems to be used are the same in both the stateside and Puerto Rico operations.

Optimizing Self-Response, one of four key innovation areas for the 2020 Census, is focused on improving our methods for increasing the number of people who take advantage of self-response options and refining the questionnaire content to increase the efficiency and effectiveness of census operations, and at the same time reducing costs.

Another key innovation area for the 2020 Census is Reengineering Field Operations. Making our methods for enumerating the households that do not initially respond more efficient can contribute to a less costly census while maintaining high-quality results. Our redesigned methods need to be tested in Puerto Rico because of a number of differences from stateside operations.

A test in Puerto Rico includes a review of other innovations that are unique to this U.S. territory. Because of the unique structure of addresses in Puerto Rico, newly defined algorithms were necessary to update and maintain the address frame. These algorithms make it now possible to refresh the address frame with U.S. Postal Service data. Another innovation is the introduction of the self-response methodology that in the past has been the standard methodology used in urban and suburban areas of the States. In the 2000 and 2010 censuses, data collection throughout Puerto Rico used only the Update/Leave methodology that is usually reserved for more rural areas stateside (in particular, in areas where mail is not delivered to houses, or where street name/house number addresses are not common). With a more accurate address frame of Puerto Rico's addresses, this test will indicate how effectively and where the innovations of the reengineering of address canvassing and the optimizing of self-response can be applied.

Optimizing Self-Response

The 2017 Puerto Rico Census Test is designed to evaluate several strategies to optimize the rate at which the public self-responds to the census. A higher rate of self-response will mean fewer cases for the Nonresponse Follow-up operation, saving taxpayer money by reducing costs. For the first time in Puerto Rico, the Census Bureau is introducing both a mail contact strategy and an Internet response strategy. The Census Bureau began testing both strategies in Puerto Rico for the 2015 National Content Test and will continue to test these strategies in the municipios selected for the 2017 Census Tests.

Internet Push is the primary mail contact strategy proposed for the stateside 2020 Census and has been used in Census Bureau research and testing efforts since 2012. Internet Choice includes a paper questionnaire in the first mailing, along with an invitation to complete the questionnaire online, providing a choice of Internet or paper from the beginning of the contact strategy.

We plan to study the following in the 2017 Puerto Rico Census Test:

• Comparing the self-response rates for the “Choice” panel and the Internet instrument uptake rates, where we invite the respondent to use the Internet in the initial letter mailing (“Internet Push”).

• Measuring the effects of incorporating household contact strategies, as tested to date, to encourage self-response, including letter and postcard reminders.

The Bureau will continue its testing and further evaluation of questionnaire content that we studied stateside:

• Testing of a combined race and Hispanic-origin question that is similar to one the Census Bureau used in the 2015 National Content Test. Based on results from the 2010 Race and Hispanic Origin Alternative Questionnaire Experiment (Compton, et. al. 2012), the 2017 Puerto Rico Census Test provides an opportunity to further test a combined race and Hispanic-origin question.

• Testing new response categories for opposite sex and same sex husband/wife/spouse and unmarried partner for the relationship question.

Nonresponse Follow-up (NRFU)

The 2017 Puerto Rico Census Test will allow the Census Bureau to continue to refine, optimize, and assess the operational procedures and technical design of the Nonresponse Follow-up operation. This will build upon the results of previous stateside field tests where the NRFU operation had been conducted. Specifically:

• Operational procedures

○ Testing continued refinements to the field data collection instrument for enumeration, including where potential problems exist in our questionnaire pathing and interview software user interface issues.

○ Continuing refinement of our re-designed method of enumerating multi-unit structures, designed to identify vacant households with a minimal number of contact attempts, and minimization of respondent burden.

○ Continuing refinement of our Quality Control Reinterview process, to detect and deter falsification by field enumerators. This may include, for instance, new methodologies for sampling reinterview cases, and further use of administrative records and paradata to identify/rule out potential falsification.

○ Continuing evaluation of our enumerator training procedures and content, including both online training modules and in-classroom training.

○ Continuing our refinement and operational testing of field supervisor to enumerator ratio, based on the results of previous tests to ensure that staffing ratios of enumerators to supervisors are validated as feasible during field operations.

○ Adding special collection of certain rural Puerto Rico addresses in the enumeration instrument.

○ Integrating a Non-ID Field Verification assignment into the NRFU workload. The Non-ID Field Verification cases are intended to verify whether the living quarters associated with Non-ID self-responses that cannot be matched to the Census Bureau address frame actually do exist and were assigned to the correct census block.

• Technical Design

○ Continuing refinement of the alerts generated by the operational control system to identify potentially problematic field behavior in real time.

○ Continuing refinement of the optimization and routing algorithms used to make field assignments.

○ Continuing work to integrate into the Census Bureau's enterprise data collection systems.

Update Enumerate (UE)

The 2017 Puerto Rico Census Test will allow the Census Bureau to test the Update Enumerate operation, which combines listing methodologies of Address Canvassing with the enumeration methodologies from Nonresponse Follow-up. This operation was used in the 2010 Census for about 1 percent of all addresses, mostly in geographic areas that:

• Do not have city-style addresses;

• Do not receive mail through city-style addresses;

• Receive mail at post office boxes;

• Have unique challenges associated with accessibility;

• Have been affected by natural disasters; or

• Have high concentrations of seasonally vacant housing.

The following objectives are being tested for Update Enumerate:

• Integrating listing and enumeration operations and systems;

• Building on previous stateside test experiences to evaluate the impact on cost and quality of the contact strategy on enumerator productivity and efficiency;

• Testing refinements to the field data collection instrument for enumeration, including such things as allowing collection of data from “other” address for in-movers and whole household “usual home elsewhere” cases;

• Testing field supervisor to enumerator ratios to ensure that staffing ratios of enumerators to supervisors are validated as feasible during field operations.

II. Method of Collection

Test Sites

The Census Bureau will conduct the 2017 Puerto Rico Census Test concurrently in Carolina, Loíza, and Trujillo Alto municipios. These locations offer particular characteristics that support the Census Bureau's research goals. Conducting the 2017 Puerto Rico Census Test in rural and urban areas will allow us to test our assignment routing strategies in lightly and densely populated areas and understand the unique challenges to field enumeration in Puerto Rico.

Self-Response

The housing units in the selected areas included in the 2017 Puerto Rico Census Test will be contacted by mail and invited to complete their questionnaire via the Internet. Internet self-response contact methods include either a letter or a postcard. We will also test optimal strategies for delivering mail materials, including paper questionnaires, to households that do not or cannot respond online. We will continue to test our Non-ID Processing methodology as another strategy for optimizing self-response. Non-ID Processing refers to address matching and geocoding for census responses that lack a preassigned census identification code. In the 2017 Puerto Rico Census Test, we will continue to develop our capability to conduct real-time non-ID processing.

This test will allow us to interactively prompt a respondent (while they are still online filling out the form) for additional address and location information if the respondent's address cannot be matched to an address with a Census ID or geocoded. A non-ID respondent whose address cannot be matched to our address database will be prompted during his or her Internet self-response session to confirm the address information they provided while filling out the form or to indicate the location of their address on an on-screen map. This test will allow us to better understand requirements related to scalability of planned systems and determine metrics for ongoing monitoring and evaluation. If the address match is not resolved during automated processing, Census Bureau staff will attempt to manually match or geocode addresses. We estimate that about one percent of the overall non-ID respondents will be contacted as part of the manual matching process. Additionally, we plan to test a mechanism for validating all non-ID responses by matching the response data to a composite file consisting of federal administrative records and third-party data.

Nonresponse Follow-up (NRFU)

If a household does not ultimately respond to the self-response portion of the test by a specified date, it is included in the universe for the NRFU portion of the test, during which enumerators will attempt to follow up with the nonresponding households to collect data. In advance of the full deployment of enumerators following up with nonresponding households, a small number of the nonresponding cases may be subject to early follow-up to allow for the live testing of systems, data collection applications, and field procedures and to provide the field data collection supervisors to gain experience with the enumeration application.

The Census Bureau will conduct NRFU with mobile smartphone devices provided via a contract with the Census Bureau to provide devices, peripherals, and service plans. The devices will utilize a Census Bureau provided enumeration application solution for conducting the NRFU field data collection.

Nonresponse Follow-up Quality Control Reinterview (NRFU-RI)

A sample of cases that have been enumerated via Nonresponse Follow-up will be selected for reinterview. This operation is intended to help us pinpoint possible cases of enumerator falsification. Like the NRFU operation before it, NRFU-RI will use the Census Bureau provided enumeration software on mobile devices. We will also test centralized phone contacts of the reinterview cases before sending them to an enumerator in the field, providing potential cost avoidance opportunities.

Non-ID Field Verification (FV)

Households that self-respond to the Census without an ID and cannot be matched to our address frame (either via automated methods or clerical review) may be sent to the field for NRFU enumerators to conduct a field verification operation. This sub-operation is intended to verify that the housing unit exists, and if possible, to collect coordinate data to enable accurate attribution to a census block.

Update Enumerate (UE)

Update Enumerate for the 2017 Puerto Rico Census Test will test three of the components of the operation: Update Enumerate Production, Update Enumerate Follow-up, and Update Enumerate Reinterview. In addition to the field operation, the Census Bureau is testing mailing out an invitation package to housing units with a mailable address to generate self-response before the operation begins. If a household self-responds, the UE fieldworker (enumerator) will not enumerate that house while listing the geographic area. This is a cost savings to Update Enumerate since the enumerator will not have to spend time collecting the enumeration of self-responding households.

Update Enumerate Production

Enumerators visit specific geographic areas to identify every place where people could live or stay comparing what they see on the ground to the existing census address list and either verify or correct the address and location information. Much like Address Canvassing, enumerators classify each living quarter (LQ) as a housing unit or group quarter (GQ). If the LQ is classified as a GQ, no attempt is made to enumerate since the plan for the 2020 Census is to have a separate operation enumerate GQs.

The enumerators will attempt to conduct an interview for each housing unit. If someone answers, the enumerators will provide a Confidentiality Notice and ask about the address in order to verify or update the information, as appropriate. The enumerators will then ask if there are any additional LQs in the structure or on the property. If there are additional LQs, the enumerators will collect/update that information, as appropriate. The enumerator will then interview the respondent using the questionnaire on the mobile device.

If no one is home at a non responding housing unit, the enumerator will leave a Notice of Visit inviting a respondent for each household to go online with an ID to complete the 2017 Puerto Rico Census Test questionnaire. The Notice of Visit will also include the phone number for Census Questionnaire Assistance (CQA) if the respondent has any questions or would prefer to respond to the questionnaire on the phone.

Update Enumerate Follow-up

The UE operation will have a UE Follow-up component for those households that were not enumerated on the first visit and have not responded via the Internet or CQA. The UE Follow-up will use the same contact strategies and business rules as Nonresponse Follow-up. UE enumerators will conduct the operation using Census Bureau provided listing and enumeration application on a Census Bureau provided mobile device, which securely collects and transmits respondent data.

Update Enumerate Reinterview

A sample of cases enumerated via Update Enumerate or Update Enumerate Follow-up will be selected for reinterview. The intention of this operation is to help us pinpoint possible cases of enumerator falsification. Update Enumerate Reinterview will use the Census Bureau's enumeration software on mobile devices. We will also test centralized phone contacts of the reinterview cases before sending them to an enumerator in the field, providing potential cost savings.

Language Services

Telephone questionnaire assistance will be available in Spanish as well as English.

III. Data

OMB Control Number: 0607-XXXX.

Form Number(s): Paper and electronic questionnaires; numbers to be determined.

Type of Review: Regular submission.

Affected Public: Households/Individuals.

Estimated Number of Respondents:

Operation or category | Estimated number of respondents | Estimated time per response (minutes) | Total burden hours (hours)
Geographic Area Focused on Self-Response
Internet/Telephone/Paper | 95,000 | 10 | 15,834
Nonresponse Follow-up | 70,000 | 10 | 11,667
Nonresponse Follow-up Quality Control RI | 7,000 | 10 | 1,167
Self-Response Subtotal | 172,000 |  | 28,668
Geographic Area Focused on Update Enumerate
Update Enumerate Response | 14,000 | 12 | 2,800
Update Enumerate Follow-up Response | 14,000 | 10 | 2,334
Update Enumerate Reinterview | 2,800 | 10 | 467
Update Enumerate Subtotal | 30,800 |  | 5,601
Non-ID Processing Phone Follow-up | 200 | 5 | 17
Totals | 203,000 |  | 34,286

Area Focused on Self-Response

Estimate for Self-Response [Internet/Telephone/Paper]: 95,000 respondents.

Corresponding Nonresponse Follow-up Cases: 70,000 respondents.

Corresponding Nonresponse Follow-up Quality Control Re-Interview Cases: 7,000 respondents.

Area focused on Update Enumerate: 28,000 respondents..

Corresponding Update Enumerate Cases: 14,000.

Corresponding Update Enumerate Followup Cases: 14,000.

Corresponding Update Enumerate Reinterview Cases: 2,800.

Non-ID Processing Cases requiring a phone call to the respondent to derive a match to a census address or to assign to a census block: 200.

Total: 203,000 Contacts

Estimated Time per Response:

Paper/Internet Responders: 10 minutes per response.

Nonresponse Follow-up Cases: 10 minutes per response.

Nonresponse Follow-up Quality Control Reinterview Cases: 10 minutes per response.

Update Enumerate Cases: 12 minutes per response.

Update Enumerate Follow-up Cases: 10 minutes per response.

Update Enumerate Reinterview Cases: 10 minutes per response.

Non-ID Processing Cases requiring a telephone follow-up to match/geocode: 5 minutes.

Estimated Total Annual Burden Hours: 34,286 hours.

Estimated Total Annual Cost to Public: There are no costs to respondents other than their time to participate in this data collection.

Respondent's Obligation: Mandatory.

Legal Authority: Title 13 U.S.C. Sections 141, 191 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 13, 2016.
Glenna Mickelson,
Management Analyst, Office of the Chief Information Officer.

[FR Doc. 2016-16966 Filed 7-18-16; 8:45 am]

BILLING CODE 3510-07-P